Title 3—

The President

Memorandum of July 4, 2005

Assignment of Reporting Function

Memorandum for the Secretary Of State

By virtue of the authority vested in me as President by the Constitution and the laws of the United States, including section 301 of title 3, United States Code, I hereby assign to you the function of the President under section 582 of the Foreign Operations, Export Financing, and Related Programs Appropriations Act, 2005 (Division D, Public Law 108-447). References in this memorandum to section 582 shall deemed to include reference to any subsequently enacted provision of law that is the same or substantially the same as section 582.

You are authorized and directed to publish this memorandum in the Federal Register.

B

THE WHITE HOUSE,

Washington, July 4, 2005.

[FR Doc. 05-15232

Filed 7-29-05; 8:45 am]

Billing code 4710-10-P